DEPARTMENT OF TRANSPORTATION

Federal Highway Administration

Environmental Impact Statement; Municipality of Anchorage, AK

AGENCY: Federal Highway Administration (FHWA), Alaska Department of Transportation and Public Facilities (ADOT&PF).

ACTION: Notice of intent.

SUMMARY: The FHWA, in cooperation with ADOT&PF and the Municipality of Anchorage, will prepare an environmental impact statement (EIS) to extend the existing Tony Knowles Coastal Trail, a National Recreation Trail, in Anchorage Alaska. The proposed project corridor is from Kincaid Park, within the Municipality, to the Potter Weigh Station, Seward Highway MP 114.2, a distance of approximately 12 miles. The State managed Anchorage Coastal Wildlife Refuge and Potter Marsh are adjacent to the project.

FOR FURTHER INFORMATION CONTACT: John Lohrey, FHWA Alaska Field Operations Engineer, PO Box 21648, Juneau, AK 99802. Telephone: (907) 586-7428 or Jim Childers, P.E., Project Manager, Alaska Department of Transportation and Public Facilities, PO Box 196900, Anchorage, AK, 99519, Telephone: (907) 269-0544.

SUPPLEMENTARY INFORMATION: The proposed project purpose is to serve a broad spectrum of non-motorized trail users with a consistent, unified trail, substantially without the need to stop for cross traffic or hazards, that connects natural settings and other trails, improves coastal access, and provides a safe experience. The proposed trail segment should provide for destination-oriented travel, commuting, exercise, and nature viewing.

Alternative trail alignments have been examined through a three-year planning and scoping process. The EIS will examine the no-action alternative and a full range of reasonable build alternatives, with variations and cross-connection options that involve lower sea level terrain and upland locations.

Planning has been underway since 1997 with preliminary engineering and a public and agency scoping process. A public advisory group and technical (agency) advisory group both met multiple times in 1998-99. A series of three community-wide trail planning meetings culminated in a public hearing held March 21, 2000. A public informational meeting was also held on September 25, 2001. A “Scoping Summary Report” was published in July 1998, and a follow-up compilation titled “Public and Agency Comment on the March 2000 Viable Alternatives Report” was published in March 28, 2000. A public informational hearing will be held on November 5, 2001.

Based on project issues and on public and agency involvement to date, FHWA and ADOT&PF have determined a need to prepare an EIS. A public hearing will be held following publication of the Draft EIS. Notice of the hearing will be published in the Federal Register and the Anchorage Daily News. Comments or questions concerning this proposed action and the EIS should be directed to the FHWA or AKDOT&PF address provided above.

(Catalog of Federal Domestic Assistance Program Number 20.205, Highway Research, Planing and Construction. The regulations implementing Executive Order 12372 regarding intergovernmental consultation on Federal programs and activities apply to this program.)

Issued on: October 2, 2001.
David C. Miller,
Division Administrator, Juneau, Alaska.

[FR Doc. 01-25886 Filed 10-12-01; 8:45 am]

BILLING CODE 4910-22-M